DEPARTMENT OF AGRICULTURE

Rural Utilities Service

Dairyland Power Cooperative: CapX 2020 Hampton-Rochester-La Crosse Transmission Line Project

AGENCY: Rural Utilities Service, USDA.

ACTION: Notice of Availability of a Draft Environmental Impact Statement and Notice of Public Hearings.

SUMMARY: Notice is hereby given that the Rural Utilities Service (RUS) has prepared a Draft Environmental Impact Statement (EIS) to meet its responsibilities under the National Environmental Policy Act (NEPA) and 7 CFR 1794 related to providing financial assistance to Dairyland Power Cooperative (Dairyland) for its share in the construction of a proposed 345-kilovolt (kV) transmission line and associated infrastructure between Hampton, Minnesota and the La Crosse area in Wisconsin (the proposed project). Dairyland is participating in the proposed project with a number of other utilities (Applicants).

The purpose of the proposed project is to: (1) Improve community reliability of the transmission system in Rochester, Winona, La Crosse, and the surrounding areas, which include areas served by Dairyland; (2) improve the regional reliability of the transmission system; and (3) increase generation outlet capacity.

DATES: Written comments on this Draft EIS will be accepted 45 days following the publication of the U.S. Environmental Protection Agency's notice of receipt of the Draft EIS in the Federal Register.

RUS will conduct five public meetings in an open-house format followed by a discussion period: January 9, 2012, Alma High School Gym, S1618 State Rd 35, Alma, Wisconsin; January 10, 2012, Wanamingo Community Center, 401 Main Street, Wanamingo, Minnesota; January 11, 2012, Cannon Falls High School Cafeteria, 820 Minnesota St. E, Cannon Falls, Minnesota; January 12, 2012, American Legion Hall, 215 3rd Street SW., Plainview, Minnesota; and January 13, 2012, Centerville/Town of Trempealeau Community Center, W24854 State Road 54/93, Galesville, Wisconsin.

All meetings will be held as follows: open house from 5:00 to 6 p.m. followed by the discussion period from 6:00 to 8 p.m. local time. A court reporter will be available.

ADDRESSES: A copy of the Draft EIS may be viewed online at the following Web site: http://www.rurdev.usda.gov/UWP-CapX2020-Hampton-Rochester-LaCrosse.html and at the following repositories:

Alma Public Library, 312 North Main Street, Alma, WI 54610. Phone: 608-685-3823.

Arcadia Public Library, 406 E Main Street, Arcadia, WI 54612. Phone: 608-323-7505.

Campbell Library, 2219 Bainbridge Street, La Crosse, WI 54603. Phone: 608-783-0052.

Cannon Falls Library, 306 West Mill Street, Cannon Falls, MN 55009. Phone: 507-263-2804.

Dairyland Power Cooperative, 500 Old State Highway 35, Alma, WI 54610. Phone: 608-685-4497.

Galesville Public Library, 16787 South Main Street, Galesville, WI 54630. Phone: 608-582-2552.

Holmen Area Library, 103 State Street, Holmen, WI 54636. Phone: 608-526-4198.

Kenyon Public Library, 709 2nd Street, Kenyon, MN 55946. Phone: 507-789-6821.

Riverland Energy Cooperative, N28988 State Road 93, Arcadia, WI 54612. Phone: 608-323-3381.

Rochester Public Library, 101 2nd Street SE., Rochester, MN 55904. Phone: 507-328-2300.

Shirley M. Wright Memorial Library, 11455 Fremont Street, Trempealeau, WI 54661. Phone: 608-534-6197.

Tri-County Electric, 31110 Cooperative Way, Rushford, MN 55971. Phone: 507-864-7783.

La Crosse Public Library, 800 Main Street, La Crosse, WI 54601. Phone: 608-789-7100.

Onalaska Public Library, 741 Oak Avenue, South, Onalaska, WI 54650. Phone: 608-781-9568.

People's Cooperative Services, 3935 Hwy 14 E., Rochester, MN 55903. Phone: 507-288-4004.

Plainview Public Library, 345 1st Avenue Northwest, Plainview, MN 55964. Phone: 507-534-3425.

Van Horn Public Library, 115 SE. 3rd Street, Pine Island, MN 55963. Phone: 507-356-8558.

Xcel Energy, 5050 Service Drive, Winona, MN 55987. Phone: 507-457-1236.

Xcel Energy, 1414 West Hamilton Avenue, Eau Claire, WI 54701. Phone: 715-839-2621.

Zumbrota Public Library, 100 West Avenue, Zumbrota, MN 55992. Phone: 507-732-5211.

FOR FURTHER INFORMATION: To obtain copies of the Draft EIS or for further information, contact: Stephanie Strength, Environmental Protection Specialist, USDA, Rural Utilities Service, 1400 Independence Avenue SW., Room 2244, Stop 1571, Washington, DC 20250-1571, or email stephanie.strength@wdc.usda.gov.

SUPPLEMENTARY INFORMATION: The U.S. Army Corps of Engineers (USACE) and the U.S. Fish and Wildlife Service (USFWS) are participating in the EIS as cooperating agencies, with RUS as the lead Federal agency. The Draft EIS addresses the construction and operation of the proposed project, which, in addition to the 345-kV transmission line and associated infrastructure, includes 161-kV transmission lines in the vicinity of Rochester, Minnesota; construction of two new and expansion of three substations, with a total transmission line length of approximately 150 miles. Counties through which the proposed project may pass include Dakota, Goodhue, Wabasha, and Olmsted in Minnesota, and La Crosse, Trempealeau, and Buffalo in Wisconsin. The Draft EIS also addresses rebuilding an existing Dairyland 39-mile long 161-kV line that extends from Alma to north La Crosse, Wisconsin, which may be co-located in whole or in part with the 345-kV line.

Among the alternatives addressed in the Draft EIS is the No Action alternative, under which the proposed project would not be undertaken. Additional alternatives addressed in the Draft EIS include route alternatives also considered in the EISs prepared for the Proposed project by the states of Minnesota and Wisconsin. RUS has carefully studied public health and safety, environmental impacts, and engineering aspects of the Proposed project.

RUS used input provided by government agencies, private organizations, and the public in the preparation of the Draft EIS. RUS will prepare a Final EIS that considers all comments received on the Draft EIS. Following the 30-day comment period for the Final EIS, RUS will prepare a Record of Decision (ROD). Notices announcing the availability of the Final EIS and the ROD will be published in the Federal Register and in local newspapers.

In accordance with Section 106 of the National Historic Preservation Act and its implementing regulation, “Protection of Historic Properties” (36 CFR 800) and as part of its broad environmental review process, RUS must take into account the effect of the proposed project on historic properties. Pursuant to 36 CFR 800.2(d)(3), RUS is using its procedures for public involvement under NEPA to meet its responsibilities to solicit and consider the views of the public during Section 106 review. Any party wishing to participate more directly with RUS as a “consulting party” in Section 106 review may submit a written request to the RUS contact provided in this notice.

The proposed project involves unavoidable impacts to wetlands and floodplains; this Notice of Availability also serves as a statement of no practicable alternatives to impacts on wetlands and floodplains, in accordance with Executive Orders 11990 and 11988, respectively (see Draft EIS Sections 3.2 and 3.5).

Any final action by RUS related to the proposed project will be subject to, and contingent upon, compliance with all relevant Federal, State and local environmental laws and regulations, and completion of the environmental review requirements as promulgated in RUS' Environmental Policies and Procedures (7 CFR 1794).

Nivin Elgohary,
Assistant Administrator, Electric Programs, Rural Utilities Service.

[FR Doc. 2011-32337 Filed 12-15-11; 8:45 am]

BILLING CODE P